DEPARTMENT OF AGRICULTURE

Center for Nutrition Policy and Promotion

Agency Information Collection Activities; Proposed Collection; Comment Request—MyPyramid Tracker Information Collection for Registration, Login, and Food Intake and Physical Activity Assessment Information

AGENCY: Center for Nutrition Policy and Promotion, USDA.

ACTION: Notice.

SUMMARY: In accordance with the Paperwork Reduction Act of 1995, this notice invites the general public and other public agencies to comment on a proposed information collection. This notice announces the Center for Nutrition Policy and Promotion's (CNPP) intention to request the Office of Management and Budget approval of the information collection process to be used in MyPyramid Tracker, an on-line dietary and physical activity self-assessment tool. The information collected can only be accessed by the user and will not be available to CNPP or any other public agency for purposes of evaluation or identification. Formative evaluation conducted among college students will be performed prior to any new Web site enhancements released to the public.

DATES: Written comments on this notice must be submitted on or before January 31, 2006.

ADDRESSES: Comments may be sent to P. Peter Basiotis, Director, Nutrition Policy and Analysis, Center for Nutrition Policy and Promotion, U.S. Department of Agriculture, 3101 Park Center Drive, Room 1034, Alexandria, Virginia, 22302. Pursuant to the Paperwork Reduction Act of 1995 (44 U.S.C. 3507), comments are invited on (a) whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology.

All responses to this notice will be summarized and included in the request for Office of Management and Budget (OMB) approval. All comments will also become a matter of public record.

FOR FURTHER INFORMATION CONTACT: Requests for additional information should be directed to Wen Yen Juan, (703) 605-4437.

SUPPLEMENTARY INFORMATION: Title: MyPyramid Tracker Information Collection for Registration, Login and Food Intake and Physical Activity Assessment.

OMB Number: Not yet assigned.

Expiration Date: Not applicable.

Type of Request: This is a new collection of information.

Abstract: MyPyramid Tracker (http://www.mypyramidtracker.gov) is an Internet based diet and physical activity self-assessment tool. It translates scientifically based guidance into practical information and promotes nutrition education by increasing awareness of the quality of a person's diet. It allows users to input their daily food intakes and physical activity information and provides a quick summary measure of overall daily diet quality, activity status, and energy balance between ‘energy in' and ‘energy out' in terms of current guidance, which can be tracked for up to one year. Motivational education messages are generated and tailored to the user's personal assessment results. This data collection will be ongoing. The information collected will only be accessible by the user. Formative evaluation of functionalities and content of the Web site will be conducted with college students in collaboration with various universities. Testing will be completed prior to the release of any newly developed Web site enhancements to the general public.

Affected Public: American Consumers.

Estimated Number of Respondents: It has been established through MyPyramid Tracker activity over the past 4 months, that an estimated 75,000 (average per month) new account registrants and 72,349 active users (average per month) have entered food and physical activity data for at least one day. From the active users it is estimated that approximately 1% will continue to use the Tracker on a daily basis for up to one year. This would equate to approximately 725 repeat users each month who would visit the site on a daily basis for up to 1 year. We are estimating that there will be 900,000 respondents for registration, login and one-time users yearly. For repeat users we estimate there will be 8,700 respondents, who will take advantage of daily food and physical activity assessments for up to one year. The number of subjects to be included in formative evaluation is estimated to be about 300 college students, who will be using the same login process for 3-days of food intake and physical activity data.

Estimated Time per Response:

1 minute for registration.

.5 minutes for login.

30 minutes for food and physical activity data entry for one-day.

| Respondents | Burden minutes | Burden hours
Interaction for Genral Public:
One Time Registration | 900,000 | 1 | 15,000
One Time Log-in | 900,000 | .5 | 7,500
Food/Physical Activity Data Entry for 1 Day | 900,000 | 30 = 27,000,000 | 450,000
Repeat Log-ins for 1 Year | 8,700 | .5 × 364 days = 1,583,400 | 26,390
Repeat Food/Physical Activity Data Entries for 1 Year | 8,700 | 30 × 364 days = 95,004,000 | 1,583,400
Subtotal |  |  | 2,082,290
Interaction for Subjects in the Formative Evaluation:
One Time Registration | 300 | 1 | 5
One Time Log-in | 300 | .5 | 2.5
Food/Physical Activity Data Entry for 1 Day | 300 | 30 = 9,000 | 150
Repeat Log-ins for 3 days | 300 | .5 × 3 days = 450 | 7.5
Repeat Food/Physical Activity Data Entries for 3 days | 300 | 30 × 3 days = 27,000 | 450
Subtotal |  |  | 615

Estimated Number of Responses per Respondent: One.

Estimated Total Annual Burden on Respondents: 2,082,905 hours.

Dated: November 23, 2005.
Eric J. Hentges,
Executive Director, Center for Nutrition Policy and Promotion.

[FR Doc. E5-6758 Filed 12-1-05; 8:45 am]

BILLING CODE 3410-30-P